DEPARTMENT OF ENERGY

[OE Docket No. EA-171-E]

Application to Export Electric Energy; Powerex Corp.

AGENCY: Office of Electricity, Department of Energy.

ACTION: Notice of application.

SUMMARY: Powerex Corp (Applicant or Powerex) has applied to renew its authorization to transmit electric energy from the United States to Canada pursuant to the Federal Power Act.

DATES: Comments, protests, or motions to intervene must be submitted on or before June 12, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On November 3, 2015, DOE issued Order EA-171-D, which authorized Powerex to transmit electric energy from the United States to Canada as a power marketer for a five-year term using existing international transmission facilities appropriate for open access. The authorization expires on November 17, 2020. On May 5, 2020, Powerex filed an application (Application or App.) with DOE for renewal of the export authorization contained in Order No. EA-171-D.

Powerex states that it is a “corporation organized under the Business Corporations Act of British Columbia, with its principal place of business . . . in Vancouver, British Columbia, Canada.” App. at 2. Powerex is a “wholly-owned marketing subsidiary of the British Columbia Hydro and Power Authority (“BC Hydro”), a provincial Crown Corporation owned by the Government of British Columbia.” Id. Powerex further states that it “will purchase the power to be exported to Canada from other power marketers, from independent power producers, from Mexican sources, or from US electric utilities, municipalities, and federal power marketing agencies.” App. at 4. Powerex contends that its proposed exports will not impair the sufficiency of electric supply within the United States and will neither impede nor tend to impede the operational reliability of the bulk power system.” See id. at 5.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Powerex's application to export electric energy to Canada should be clearly marked with OE Docket No. EA-171-E. Additional copies are to be provided directly to Connor Curson, 666 Burrard Street, Suite 1300, Vancouver, British Columbia, Canada V6C 2X8, connor.curson@powerex.com; Deanna E. King, 111 Congress Avenue, Suite 2300, Austin, TX 78701, deanna.king@bracewell.com; and Tracey L. Bradley, 2001 M Street NW, Suite 900, Washington, DC 20036, tracey.bradley@bracewell.com.

A final decision will be made on this Application after the environmental impacts have been evaluated pursuant to DOE's National Environmental Policy Act Implementing Procedures (10 CFR part 1021) and after DOE determines that the proposed action will not have an adverse impact on the sufficiency of supply or reliability of the U.S. electric power supply system.

Copies of this Application will be made available, upon request, by accessing the program website at http://energy.gov/node/11845, or by emailing Matthew Aronoff at matthew.aronoff@hq.doe.gov.

Signed in Washington, DC, on May 8, 2020.
Christopher Lawrence,
Management and Program Analyst, Transmission Permitting and Technical Assistance, Office of Electricity.

[FR Doc. 2020-10265 Filed 5-12-20; 8:45 am]

BILLING CODE 6450-01-P